DEPARTMENT OF TRANSPORTATION

Federal Aviation Administration

14 CFR Part 73

[Docket No. FAA-2006-26646; Airspace Docket No. 06-ASW-12]

RIN 2120-AA66

Change to Time of Designation of Restricted Area 6320; Matagorda, TX

AGENCY: Federal Aviation Administration (FAA), DOT.

ACTION: Final rule.

SUMMARY: This action amends the time of designation for Restricted Area 6320 (R-6320), Matagorda, TX. Specifically, this action amends the time of designation from “Continuous” to “Intermittent by [Notice to Airmen] NOTAM.” This rule makes no other changes to R-6320. The FAA is issuing this amendment because R-6320 is no longer continuously needed for the aerostat balloon, used in support of U.S. National Security interests.

EFFECTIVE DATE: 0901 UTC, March 15, 2007.

FOR FURTHER INFORMATION CONTACT: Steve Rohring, Airspace and Rules, Office of System Operations Airspace and AIM, Federal Aviation Administration, 800 Independence Avenue, SW., Washington, DC 20591; telephone: (202) 267-8783.

SUPPLEMENTARY INFORMATION:

Background

In response to public concern, the FAA approached the United States (U.S.) Custom Service and the U.S. Air Force Air Combat Command with a request to reduce the time of designation for R-6320. On June 15, 2006, the U. S. Customs Service and the U.S. Air Force concurred with reducing the time of designation from “Continuous” to “Intermittent by NOTAM.” The reason for the change is because R-6320 is no longer continuously needed for the aerostat balloon.

The Rule

The FAA is amending the time of designation for R-6320 from “Continuous” to “Intermittent by NOTAM.” This rule makes no other changes to R-6320. This action reduces the burden on the public by reducing the time of designation. Therefore, notice and public procedures under 5 U.S.C. 553(b) are unnecessary.

Section 73.63 of Title 14 CFR part 73 was republished in FAA Order 7400.8M, dated January 6, 2006.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with 311c., FAA Order 1050.1E, “Environmental Impacts: Policies and Procedures”. This airspace action is not expected to cause any potentially significant environmental impacts, and no extraordinary circumstances exist that warrant preparation of an environmental assessment.

List of Subjects in 14 CFR Part 73

Airspace, Prohibited areas, Restricted areas.

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.63 [Amended]

2. § 73.63 is amended as follows:

* * * * *

R-6320 Matagorda, TX [Amended]

Under Time of designation, by removing the word “Continuous” and inserting the words “Intermittent by NOTAM.”

* * * * *

Issued in Washington, DC on January 5, 2007.
Edith V. Parish,
Manager, Airspace and Rules.

[FR Doc. E7-392 Filed 1-11-07; 8:45 am]

BILLING CODE 4910-13-P